DEPARTMENT OF COMMERCE

Office of the Under Secretary for Economic Affairs

Request for Comments on the First Annual Report of the Advisory Committee on Data for Evidence Building

AGENCY: Office of the Under Secretary for Economic Affairs, Department of Commerce.

ACTION: Request for comments.

SUMMARY: The Foundations for Evidence-Based Policymaking Act of 2018 requires Federal agencies to modernize their data management practices to develop and support evidence-based policymaking. The Act requires the Director of the Office of Management and Budget (OMB), or the head of an agency designated by the Director, to establish the Advisory Committee on Data for Evidence Building (Advisory Committee). In a letter dated September 3, 2019, OMB delegated managerial and administrative responsibility for this Federal advisory committee to the Department of Commerce Office of Under Secretary for Economic Affairs (OUSEA). The Advisory Committee is required to deliver publicly available annual reports on its activities and findings to the OMB Director. The Advisory Committee submitted its first-year report on October 29, 2021. This FRN requests comments from the public on the Advisory Committee's first annual report.

DATES: Comments must be received by December 31, 2021.

ADDRESSES: You may submit comments by emailing Evidence@bea.gov. Begin with the phrase “Comments for the Advisory Committee on Data for Evidence Building;” and indicate which section(s) of the report your comments address. Comments by fax or paper delivery will not be accepted.

Privacy Note: Comments submitted in response to this notice may be made available to the public through relevant websites. Therefore, commenters should only include information they wish to make publicly available on the internet. Do not submit confidential business information or otherwise sensitive or protected information.

Please note the confidentiality of routine communication and responses to this public comment request are treated as public comments and may therefore be made publicly available, notwithstanding the inclusion of the routine notice.

FOR FURTHER INFORMATION CONTACT: Gianna Marrone, Program Analyst, U.S. Department of Commerce, 4600 Silver Hill Road (BE-64), Suitland, MD 20746; phone (301) 278-9282; email Evidence@bea.gov.

SUPPLEMENTARY INFORMATION:

Request for Comments

The Advisory Committee submitted its first-year report to the Director of the Office of Management and Budget on October 29, 2021. The report is also available publicly on the Advisory Committee's website. The report summarizes the Committee's first-year activities and resulting findings, laying out a vision for a National Secure Data Service and the future of data sharing, data linkages, and privacy enhancing techniques across Federal agencies and with state and local governments. The report describes recommended actions that can be taken today to build towards that vision while also articulating the path that the Committee intends to take across the next year to further develop recommendations for implementing the vision.

Over the past 12 months, the Committee has engaged in extensive fact-finding, including examining the recommendations of the Commission on Evidence-Based Policymaking and the implications of their partial implementation through the Evidence Act; leveraging the expertise of its members; hearing from researchers, government leaders, other experts, and the public; conducting virtual site visits to existing data facilities; and beginning to collaboratively synthesize the different perspectives and use cases into a coherent understanding of the current state and future needs for the use of data for evidence building. The Committee members recognize their efforts as a work-in-progress that will continue across the next 12 months.

This request for comments offers researchers, evaluators, contractors, government entities, and other interested parties the opportunity to inform the Committee's second-year plans. This is a general solicitation of comments from the public. The FRN commentors may respond to any section of the report. Please clearly indicate which section(s) of the report you address in your response and provide evidence to support assertions, where practicable.

Dated: November 29, 2021.

Authority: 5 U.S.C. 315.

Alyssa Holdren,
Designated Federal Official, Advisory Committee on Data for Evidence Building.

[FR Doc. 2021-26161 Filed 12-1-21; 8:45 am]

BILLING CODE 3510-MN-P